DEPARTMENT OF LABOR

Mine Safety and Health Administration

[OMB Control No. 1219-0073]

Proposed Extension of Information Collection; Mine Mapping and Records of Opening, Closing, and Reopening of Mines

AGENCY: Mine Safety and Health Administration, Labor.

ACTION: Request for public comments.

SUMMARY: The Department of Labor (DOL), as part of its continuing effort to reduce paperwork and respondent burden, conducts a pre-clearance request for comment to provide the general public and Federal agencies with an opportunity to comment on proposed collections of information, in accordance with the Paperwork Reduction Act of 1995. This request helps to ensure that: requested data can be provided in the desired format; reporting burden (time and financial resources) is minimized; collection instruments are clearly understood; and the impact of collection requirements on respondents can be properly assessed. The Mine Safety and Health Administration (MSHA) is soliciting comments on the information collection for Mine Mapping and Records of Opening, Closing, and Reopening of Mines.

DATES: All comments must be received on or before September 10, 2024.

ADDRESSES: Comments concerning the information collection requirements of this notice may be sent by any of the methods listed below. Please note that late comments received after the deadline will not be considered.

• Federal E-Rulemaking Portal: https://www.regulations.gov. Follow the on-line instructions for submitting comments for docket number MSHA-2024-0010.

• Mail/Hand Delivery: DOL-MSHA, Office of Standards, Regulations, and Variances, 201 12th Street South, 4th Floor West, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

Section 103(h) of the Federal Mine Safety and Health Act of 1977, as amended (Mine Act), 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise as may be appropriate, improved mandatory health or safety standards for the protection of life and prevention of injuries in coal, metal, and nonmetal mines.

In order to fulfill the statutory mandates to promote miners' health and safety, MSHA requires the collection of information associated with Mine Mapping and Records of Opening, Closing, and Reopening of Mines. The information collection addressed by this notice is intended to ensure that operators maintain up-to-date, accurate mine maps that are available for review and contain the information needed to identify the best alternatives for action during an emergency operation. Coal mine operators routinely use maps to develop safe and effective mine plans, including accurate, up-to-date disaster maps, which mine emergency personnel can use to locate refuges for miners and identify sites of explosion potential.

Mine maps are schematic depictions of critical mine infrastructure, such as water, power, transportation, ventilation, and communication systems. Mine maps describe the current status of an operating mine or provide crucial information about a closed mine that is being reopened. The maps provide essential information for MSHA to plan and conduct mandatory inspections and to review and approve mandatory mine plans including a proposed roof control plan and mine ventilation plan, and permits. Additionally, during a disaster, maps can be crucial to the safety of the emergency personnel who must enter a mine to begin a search for survivors. Emergency personnel can use the maps to figure out where stationary equipment is placed and where the ground is secured, so that they can quickly begin a rescue operation.

Under 30 CFR parts 75 and 77, mine operators are required to collect information for mapping of mines and for opening, closing, and reopening of mines. MSHA requires mine operators to develop, update, and provide certified coal mine maps and any revisions and supplements. Operators are also required to provide MSHA access to inspect mine maps and to file mine closure maps.

Under section 312 of the Mine Act, 30 U.S.C. 872, the operator of a coal mine is required to have a fireproof repository of an accurate and up-to-date mine map drawn on scale. The map must identify areas of the mine which have been pillared, worked out, or abandoned which are inaccessible or cannot be entered safely and on which no information is available.

Underground Coal Mines

I. Notifications of Opening or Reopening of Underground Coal Mines

Under 30 CFR 75.373, MSHA must be notified and must complete an inspection before an abandoned or inactive mine can be reopened.

Under 30 CFR 75.1721(a), prior to opening, reopening or reactivating a mine, the operator of a new underground coal mine or a mine which has been abandoned or deactivated and is to be reopened or reactivated, must notify the Coal Mine Health and Safety District Manager for the district in which the mine is located of the approximate date of the proposed or actual date of opening, reopening, or reactivating of the mine. The preliminary plans, including a proposed roof control plan, a proposed mine ventilation plan, and a proposed plan for sealing work-out areas as outlined in 30 CFR 75.372, must be submitted to the District Manager in writing and include the required contents listed in 30 CFR 75.1721(b) and (c).

Under 30 CFR 75.372(a), the operator must submit to the District Manager three copies of an up-to-date mine ventilation map at intervals not exceeding 12 months. The map must be certified for its accuracy by a registered engineer or surveyor. Information shown on the mine ventilation map is subject to approval by the District Manager.

Under 30 CFR 75.372(c), MSHA allows the mine map to be used to satisfy the requirements for the ventilation map, provided that all the information required by the ventilation map is contained on the map. Information collection burden associated with ventilation plans in underground coal mines is reported in ICR OMB control number 1219-0088.

II. Revisions of Mine Maps in Underground Coal Mines

Under 30 CFR 75.1200, operator of an underground coal mine is required to have a fireproof repository of an accurate and up-to-date mine map. The required elements of the mine map are listed in 30 CFR 75.1200 and 75.1200-1.

Under 30 CFR 75.1200-2, the scale of mine maps must not be less than 100 or more than 500 feet to the inch. Also, mine traverses must be advanced by closed loop methods of traversing or other equally accurate methods of traversing.

Under 30 CFR 75.1201, mine maps must be made or certified by a registered engineer or surveyor of the State in which the mine is located.

Under 30 CFR 75.1202, mine maps must be kept up-to-date by temporary notations (specified in 75.1202-1(b)) and be revised and supplemented at intervals prescribed by the Secretary (no more than 6 months as specified in 30 CFR 75.1202-1(a)) on the basis of a survey made or certified by a registered engineer or surveyor.

III. Availability of Mine Map

Under 30 CFR 75.1203, mine operator is required to make the coal mine map and any revision and supplement available for inspection by MSHA inspectors, by coal mine inspectors of the State in which the mine is located, by miners in the mine and their representatives and by operators of adjacent coal mines and by persons owning, leasing, or residing on surface areas of the mines or areas adjacent to the mines. Upon request, the operator must furnish to MSHA inspector one or more copies of the map and any revision and supplement. The coal mine operator must keep the map or revision and supplement confidential and must not divulged its contents to any other person, except to the extent necessary to carry out the provisions of the Mine Act and in connection with the functions and responsibilities of MSHA.

IV. Filing of Mine Closure Maps in Underground Coal Mines

Under 30 CFR 75.1204, coal mine operator is required to promptly notify MSHA whenever the operator permanently closes or abandons a coal mine, or temporarily closes a coal mine for a period of more than 90 days. Within 60 days of the permanent closure or abandonment of the mine, or, when the mine is temporarily closed, upon the expiration of a period of 90 days from the date of closure, the operator must file with MSHA a copy of the mine map revised and supplemented to the date of the closure. The mine map must be certified by a registered surveyor or engineer of the State in which the mine is located and be available for public inspection.

Under 30 CFR 75.1204-1, coal mine operators must give notice of mine closures and file copies of maps with the Coal Mine Safety and Health District Office for the district in which the mine is located.

Surface Coal Mines and Surface Work Areas of Underground Coal Mines

I. Revisions of Mine Maps in Surface Mines

Under 30 CFR 77.1200, the operator must maintain an accurate and up-to-date mine map, at or near the mine, in an area chosen by the mine operator. The map must be on a scale of not less than 100 nor more than 500 feet to the inch. The operator is required to have a duplicate copy on file at a separate and distinct location to minimize the danger of destruction by fire or other hazard. The information required on the mine map is also listed in this section.

Under 30 CFR 77.1201, mine maps must be made or certified by an engineer or surveyor registered by the State in which the mine is located. Under 30 CFR 77.1202, the mine map must be available for inspection by MSHA.

II. Desired Focus of Comments

MSHA is soliciting comments concerning the proposed information collection related to Mine Mapping and Records of Opening, Closing, and Reopening of Mines. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 201 12th Street South, 4th Floor West, Arlington, VA 22202-5452. Sign in at the receptionist's desk on the 4th floor via the West elevator. Before visiting MSHA in person, call 202-693-9455 to make an appointment, in keeping with the Department of Labor's COVID-19 policy. Special health precautions may be required.

Questions about the information collection requirements may be directed to the person listed in the FOR FURTHER INFORMATION section of this notice.

III. Current Actions

This information collection request concerns provisions for Mine Mapping and Records of Opening, Closing, and Reopening of Mines. MSHA has updated the data with respect to the number of respondents, responses, burden hours, and burden costs supporting this information collection request from the previous information collection request.

Type of Review: Extension, without change, of a currently approved collection.

Agency: Mine Safety and Health Administration.

OMB Number: 1219-0073.

Affected Public: Business or other for-profit.

Number of Annual Respondents: 376.

Frequency: On occasion.

Number of Annual Responses: 1,540.

Annual Burden Hours: 8,308 hours.

Annual Burden Costs: $561,625.

Annual Other Burden Costs: $5,134,836.

Comments submitted in response to this notice will be summarized in the request for Office of Management and Budget approval of the proposed information collection request; they will become a matter of public record and will be available at https://www.reginfo.gov.

Song-Ae Aromie Noe,
Certifying Officer, Mine Safety and Health Administration.

[FR Doc. 2024-15281 Filed 7-11-24; 8:45 am]

BILLING CODE 4520-43-P